DEPARTMENT OF LABOR

Employment and Training Administration

[TA-W-63,107]

Littelfuse, Inc., Automotive Business Unit, Including On-Site Temporary Workers From Aerotek, Des Plaines, IL; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on April 16, 2008, applicable to workers of Littelfuse, Inc., Automotive Business Unit, Des Plaines, Illinois. The notice was published in the Federal Register on May 2, 2008 (73 FR 24318).

At the request of a company official, the Department reviewed the certification for workers of the subject firm. The workers are engaged in the production of automotive circuit protection devices.

New information shows that temporary workers of AeroTek were employed on-site at the Des Plaines, Illinois location of Littelfuse, Inc., Automotive Business Unit. The Department has determined that these workers were sufficiently under the control of the subject firm to be considered temporary workers.

Based on these findings, the Department is amending this certification to include temporary workers of AeroTek working on-site at the Des Plaines, Illinois location of the subject firm.

The intent of the Department's certification is to include all workers employed at Littlefuse, Inc., Automotive Business Unit, Des Plaines, Illinois who were adversely affected by a shift in production of automotive circuit protection devices to Mexico.

The amended notice applicable to TA-W-63,107 is hereby issued as follows:

“All workers of Littelfuse, Inc., Automotive Business Unit, including on-site temporary workers from AeroTek, Des Plaines, Illinois, who became totally or partially separated from employment on or after March 28, 2007, through April 16, 2010, are eligible to apply for adjustment assistance under Section 223 of the Trade Act of 1974, and are also eligible to apply for alternative trade adjustment assistance under Section 246 of the Trade Act of 1974.”

Signed at Washington, DC this 23rd day of May 2008.
Linda G. Poole,
Certifying Officer, Division of Trade Adjustment Assistance.

[FR Doc. E8-12331 Filed 6-2-08; 8:45 am]

BILLING CODE 4510-FN-P